DEPARTMENT OF ENERGY

Federal Energy Regulatory Commission

Combined Notice of Filings #1

Take notice that the Commission received the following electric corporate filings:

Docket Numbers: EC14-35-000.

Applicants: Mojave Solar LLC.

Description: Application for the Distribution of Jurisdictional Facilities of Mojave Solar LLC under Section 203 of the FPA.

Filed Date: 12/6/13.

Accession Number: 20131206-5251.

Comments Due: 5 p.m. ET 12/27/13.

Take notice that the Commission received the following electric rate filings:

Docket Numbers: ER10-1103-003; ER10-1119-003; ER10-1123-003.

Applicants: Ameren Illinois Company, Union Electric Company, AmerenEnergy Medina Valley Cogen, L.L.C.

Description: Notice of change in status of the Ameren Entities.

Filed Date: 12/6/13.

Accession Number: 20131206-5183.

Comments Due: 5 p.m. ET 12/27/13.

Docket Numbers: ER14-407-001.

Applicants: Capacity Markets Partners, LLC.

Description: Amended Application for Market-Based Rates to be effective 12/1/2013.

Filed Date: 12/6/13.

Accession Number: 20131206-5182.

Comments Due: 5 p.m. ET 12/27/13.

Docket Numbers: ER14-498-001.

Applicants: Pacific Gas and Electric Company.

Description: Errata to Western WDT November 2013 Biannual Filing to be effective 2/1/2014.

Filed Date: 12/6/13.

Accession Number: 20131206-5226.

Comments Due: 5 p.m. ET 12/27/13.

Docket Numbers: ER14-499-001.

Applicants: Pacific Gas and Electric Company.

Description: Errata to Western IA November 2013 Biannual Filing to be effective 2/1/2014.

Filed Date: 12/6/13.

Accession Number: 20131206-5230.

Comments Due: 5 p.m. ET 12/27/13.

Docket Numbers: ER14-544-000.

Applicants: Blue Canyon Windpower LLC.

Description: Second Revised MBR to be effective 12/7/2013.

Filed Date: 12/6/13.

Accession Number: 20131206-5145.

Comments Due: 5 p.m. ET 12/27/13.

Docket Numbers: ER14-545-000.

Applicants: Blue Canyon Windpower II LLC.

Description: Second Revised MBR Tariff to be effective 12/7/2013.

Filed Date: 12/6/13.

Accession Number: 20131206-5146.

Comments Due: 5 p.m. ET 12/27/13.

Docket Numbers: ER14-546-000.

Applicants: High Trail Wind Farm, LLC.

Description: Second Revised MBR Tariff to be effective 12/7/2013.

Filed Date: 12/6/13.

Accession Number: 20131206-5147.

Comments Due: 5 p.m. ET 12/27/13.

Docket Numbers: ER14-547-000.

Applicants: Old Trail Wind Farm, LLC.

Description: Second Rev MBR to be effective 12/7/2013.

Filed Date: 12/6/13.

Accession Number: 20131206-5148.

Comments Due: 5 p.m. ET 12/27/13.

Docket Numbers: ER14-548-000.

Applicants: Telocaset Wind Power Partners, LLC.

Description: Second Rev MBR Tariff to be effective 12/7/2013.

Filed Date: 12/6/13.

Accession Number: 20131206-5149.

Comments Due: 5 p.m. ET 12/27/13.

Docket Numbers: ER14-549-000.

Applicants: California Independent System Operator Corporation.

Description: 2013-12-06 Notice of Termination of Service Agreement No. 1992—Rice Solar PPGA to be effective 5/21/2013.

Filed Date: 12/6/13.

Accession Number: 20131206-5176.

Comments Due: 5 p.m. ET 12/27/13.

Docket Numbers: ER14-550-000.

Applicants: Pacific Gas and Electric Company.

Description: Revisions to Market-Based Rate Tariff Pursuant to Order No. 784 to be effective 2/5/2014.

Filed Date: 12/6/13.

Accession Number: 20131206-5181.

Comments Due: 5 p.m. ET 12/27/13.

Docket Numbers: ER14-551-000.

Applicants: California Independent System Operator Corporation.

Description: 2013-12-06 Notice of Termination of Rate Schedule No. 31—WAPA-DSR IBAAOA to be effective 2/5/2014.

Filed Date: 12/6/13.

Accession Number: 20131206-5195.

Comments Due: 5 p.m. ET 12/27/13.

Docket Numbers: ER14-552-000.

Applicants: New York Independent System Operator, Inc.

Description: Tariff amendments to implement CTS with PJM to be effective 12/31/9998.

Filed Date: 12/6/13.

Accession Number: 20131206-5196.

Comments Due: 5 p.m. ET 12/27/13.

Docket Numbers: ER14-553-000.

Applicants: Cloud County Wind Farm, LLC.

Description: Second Revised MBR to be effective 12/7/2013.

Filed Date: 12/6/13.

Accession Number: 20131206-5201.

Comments Due: 5 p.m. ET 12/27/13.

Docket Numbers: ER14-554-000.

Applicants: Arlington Wind Power Project LLC.

Description: 1st Revised MBR to be effective 12/7/2013.

Filed Date: 12/6/13.

Accession Number: 20131206-5208.

Comments Due: 5 p.m. ET 12/27/13.

Docket Numbers: ER14-555-000.

Applicants: High Prairie Wind Farm II, LLC.

Description: Second Revised MBR to be effective 12/7/2013.

Filed Date: 12/6/13.

Accession Number: 20131206-520.

Comments Due: 5 p.m. ET 12/27/13.

Docket Numbers: ER14-556-000.

Applicants: Lost Lakes Wind Farm LLC.

Description: Second Revised MBR Tariff to be effective 12/7/2013.

Filed Date: 12/6/13.

Accession Number: 20131206-5210.

Comments Due: 5 p.m. ET 12/27/13.

Docket Numbers: ER14-557-000.

Applicants: Meadow Lake Wind Farm III LLC.

Description: First Revised MBR to be effective 12/7/2013.

Filed Date: 12/6/13.

Accession Number: 20131206-5215.

Comments Due: 5 p.m. ET 12/27/13.

Docket Numbers: ER14-558-000.

Applicants: Blackstone Wind Farm II LLC.

Description: 1st Revised MBR to be effective 12/7/2013.

Filed Date: 12/6/13.

Accession Number: 20131206-5216.

Comments Due: 5 p.m. ET 12/27/13.

Docket Numbers: ER14-559-000.

Applicants: Meadow Lake Wind Farm IV LLC.

Description: First Revised MBR to be effective 12/7/2013.

Filed Date: 12/6/13.

Accession Number: 20131206-5217.

Comments Due: 5 p.m. ET 12/27/13.

Docket Numbers: ER14-560-000.

Applicants: Paulding Wind Farm II LLC.

Description: First Rev MBR to be effective 12/7/2013.

Filed Date: 12/6/13.

Accession Number: 20131206-5218.

Comments Due: 5 p.m. ET 12/27/13.

Docket Numbers: ER14-561-000.

Applicants: Pioneer Prairie Wind Farm I, LLC.

Description: Second Revised MBR to be effective 12/7/2013.

Filed Date: 12/6/13.

Accession Number: 20131206-5222.

Comments Due: 5 p.m. ET 12/27/13.

Docket Numbers: ER14-562-000.

Applicants: Blue Canyon Windpower V LLC.

Description: 2nd Revised MBR to be effective 12/7/2013.

Filed Date: 12/6/13.

Accession Number: 20131206-5223.

Comments Due: 5 p.m. ET 12/27/13.

Docket Numbers: ER14-563-000.

Applicants: Indigo Generation LLC.

Description: MBR Clarification Compliance Filing to be effective 12/7/2013.

Filed Date: 12/6/13.

Accession Number: 20131206-5225.

Comments Due: 5 p.m. ET 12/27/13.

Docket Numbers: ER14-564-000.

Applicants: Larkspur Energy LLC.

Description: MBR Clarification Compliance Filing to be effective 12/7/2013.

Filed Date: 12/6/13.

Accession Number: 20131206-5227.

Comments Due: 5 p.m. ET 12/27/13.

Docket Numbers: ER14-565-000.

Applicants: Blue Canyon Windpower VI LLC.

Description: 1st Revised MBR to be effective 12/7/2013.

Filed Date: 12/6/13.

Accession Number: 20131206-5232.

Comments Due: 5 p.m. ET 12/27/13.

Docket Numbers: ER14-566-000.

Applicants: Wildflower Energy LP.

Description: MBR Clarification Compliance Filing to be effective 12/7/2013.

Filed Date: 12/6/13.

Accession Number: 20131206-5237.

Comments Due: 5 p.m. ET 12/27/13.

Docket Numbers: ER14-567-000.

Applicants: Alabama Power Company.

Description: Powersouth NITSA Amendment Filing (to add Providence Road Delivery Point) to be effective 12/1/2013.

Filed Date: 12/6/13.

Accession Number: 20131206-5238.

Comments Due: 5 p.m. ET 12/27/13.

Docket Numbers: ER14-568-000.

Applicants: California Independent System Operator Corporation.

Description: 2013-12-06 Filing of Western-DSR ABAOA—Rate Schedule No. 74 to be effective 2/5/2014.

Filed Date: 12/6/13.

Accession Number: 20131206-5239.

Comments Due: 5 p.m. ET 12/27/13.

Docket Numbers: ER14-569-000.

Applicants: California Independent System Operator Corporation.

Description: 2013-12-06 Western-DSR DTA Rate Sched 75 to be effective 2/5/2014.

Filed Date: 12/6/13.

Accession Number: 20131206-5241.

Comments Due: 5 p.m. ET 12/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 9, 2013.
Nathaniel J. Davis, Sr.,
Deputy Secretary.

[FR Doc. 2013-30093 Filed 12-17-13; 8:45 am]

BILLING CODE 6717-01-P